DEPARTMENT OF AGRICULTURE

Forest Service

National Urban and Community Forestry Advisory Council

AGENCY: Forest Service, USDA.

ACTION: Notice of closed virtual meeting.

SUMMARY: The National Urban and Community Forestry Advisory Council will meet through a Web cast, July 21-22, 2009. The purpose of the meeting is to discuss general Council business.

DATES: The meeting will be held on July 21 and 22, 2009, 9 a.m. to 5 p.m.

ADDRESSES: The meeting will be held through a Webinar. Written comments concerning this meeting should be addressed to Nancy Stremple, Executive Staff to National Urban and Community Forestry Advisory Council, 201 14th St., SW., Yates Building (1 Central) MS-1151, Washington, DC 20250-1151. Comments may also be sent via e-mail to nucfac_ucf_proposals@fs.fed.us, or via facsimile to 202-690-5792.

All comments, including names and addresses when provided, are placed in the record and are available for public inspection and copying. The public may inspect comments received at 201 14th St., SW., Yates Building (1 Central) MS-1151, Washington, DC 20250-1151.

FOR FURTHER INFORMATION CONTACT: Nancy Stremple, Executive Staff to National Urban and Community Forestry Advisory Council, phone 202-205-1054.

Individuals who use telecommunication devices for the deaf (TDD) may call the Federal Information Relay Service (FIRS) at 1-800-877-8339 between 8 a.m. and 8 p.m., Eastern Standard Time, Monday through Friday.

SUPPLEMENTARY INFORMATION: The meeting is closed to the public. Council discussion is limited to Forest Service staff and Council members; however, persons who wish to bring urban and community forestry matters to the attention of the Council may file written statements with the Council staff (201 14th St., SW., Yates Building (1 Central) MS-1151, Washington, DC 20250-1151, e-mail: nstremple@fs.fed.us) before or after the meeting.

Dated: June 12, 2009.
Robin L. Thompson,
Associate Deputy Chief, State & Private Forestry.

[FR Doc. E9-14375 Filed 6-18-09; 8:45 am]

BILLING CODE 3410-11-P